DEPARTMENT OF DEFENSE

Office of the Secretary

[Docket ID: DoD-2010-OS-0036]

Privacy Act of 1974; System of Records

AGENCY: Defense Threat Reduction Agency, DoD.

ACTION: Notice to amend a system of records.

SUMMARY: The Defense Threat Reduction Agency proposes to amend a system of records notice in its existing inventory of record systems subject to the Privacy Act of 1974, (5 U.S.C. 552a), as amended.

DATES: This proposed action will be effective without further notice on May 3, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the Freedom of Information and Privacy Office, Defense Threat Reduction Agency, 8725 John J. Kingman Road, Fort Belvoir, VA 22060-6201.

The specific changes to the record systems being amended are set forth below followed by the notice, as amended, published in its entirety. The proposed amendments are not within the purview of subsection (r) of the Privacy Act of 1974, (5 U.S.C. 552a), as amended, which requires the submission of a new or altered system report.

Dated: March 29, 2010.
Mitchell S. Bryman,
Alternate OSD Federal Register Liaison Officer, Department of Defense.

HDTRA 017

Voluntary Leave Sharing Program Records (August 3, 2005; 70 FR 44573).

Changes:

System Name:

Delete entry and replace with “Voluntary Leave Transfer Program Records.”

System Location:

Delete entry and replace with “Business Enterprise, Human Capital Office, Defense Threat Reduction Agency, 8725 John J. Kingman Road, Fort Belvoir, VA 22060-6201.”

Categories of Individuals Covered by the System:

Delete entry and replace with “Individuals who have volunteered to participate in the leave transfer program as either a donor or recipient of annual leave.”

Categories of Records in the System:

Delete entry and replace with “Leave recipient records contain the individual's name, organization, office telephone number, Social Security Number (SSN), position title, grade, pay level, leave balances, brief description of the medical or personal hardship which qualifies the individual for inclusion in the leave transfer program, the status of the hardship, and a statement that selected data elements may be used in soliciting donations. The file may also contain medical or physician certifications and Defense Threat Reduction Agency (DTRA) approvals or denials.

Donor records include the individual's name, organization, office, telephone number, Social Security Number (SSN), position title, grade, pay level, leave balances, number of hours being transferred (or donated leave), and in the case of the transfer program, the designated leave recipient.”

Authority for Maintenance of the System:

Delete entry and replace with “5 U.S.C. 301, Departmental Regulations; 5 U.S.C. 6331 et seq, Leave; 5 CFR part 630, Administrative Personnel, Absence and Leave; and E.O. 9397 (SSN), as amended.”

Purpose(s):

Delete entry and replace with “This system is used in managing the Defense Threat Reduction Agency (DTRA) Voluntary Leave Sharing Program. The recipient's name, and a brief description of the hardship, if authorized by the recipient, is published internally for solicitation purposes. The Social Security Number (SSN) is obtained to ensure the transfer of leave from the donor's account to the recipient's account.”

Routine uses of Records Maintained in the System, Including Categories of Users and the Purposes of Such Uses:

Delete entry and replace with “In addition to those disclosures generally permitted under 5 U.S.C. 552a(b) of the Privacy Act of 1974, these records contained therein may specifically be disclosed outside the DoD as a routine use pursuant to 5 U.S.C. 552a(b)(3) as follows:

To the Department of Labor in connection with a claim filed by an employee for compensation due to a job-related injury or illness; where the leave donor and leave recipient are employed by different Federal agencies.

To personnel and finance offices of Federal agencies involved to effectuate the leave transfer.

The DoD `Blanket Routine Uses' set forth at the beginning of DTRA's compilation of systems of records notices apply to this system.”

Storage:

Delete entry and replace with “Records are stored on paper and electronic storage media.”

* * * * *

Retention and Disposal:

Delete entry and replace with “Records are destroyed two years after the end of the year in which the file is closed. Paper records are destroyed by burning or shredding; electronic records are deleted.”

System Manager(S) and Address:

Delete entry and replace with “Chief, Human Capital Office, Defense Threat Reduction Agency, 8725 John J. Kingman Road, Fort Belvoir, VA 22060-6201.”

Notification Procedure:

Delete entry and replace with “Individuals seeking to determine whether information about themselves is contained in this system of records should address written inquiries to the Human Capital Office, Defense Threat Reduction Agency, 8725 John J. Kingman Road, Fort Belvoir, VA 22060-6201.

Written requests should contain the full name and Social Security Number (SSN).”

Record Access Procedures:

Delete entry and replace with “Individuals seeking access to information about themselves contained in this system of records should address written inquiries to the Human Capital Office, Defense Threat Reduction Agency, 8725 John J. Kingman Road, Fort Belvoir, VA 22060-6201.

Written requests for information should contain the full name and Social Security Number (SSN).”

Contesting Record Procedures:

Delete entry and replace with “The DTRA rules for accessing records and for contesting contents and appealing initial agency determinations are published in DTRA Instruction 5400.11, DTRA Privacy Program; 32 CFR part 318; or may be obtained from the system manager.”

Record Source Categories:

Delete entry and replace with “From the individual, personnel and leave records.”

* * * * *

HDTRA 017

System Name:

Voluntary Leave Transfer Program Records.

System Location:

Business Enterprise, Human Capital Office, Defense Threat Reduction Agency, 8725 John J. Kingman Road, Fort Belvoir, VA 22060-6201.

Categories of Individuals Covered by the System:

Individuals who have volunteered to participate in the leave transfer program as either a donor or recipient of annual leave.

Categories of Records in the System:

Leave recipient records contain the individual's name, organization, office telephone number, Social Security Number (SSN), position title, grade, pay level, leave balances, brief description of the medical or personal hardship which qualifies the individual for inclusion in the leave transfer program, the status of the hardship, and a statement that selected data elements may be used in soliciting donations. The file may also contain medical or physician certifications and DTRA approvals or denials.

Donor records include the individual's name, organization, office, telephone number, Social Security Number (SSN), position title, grade, pay level, leave balances, number of hours being transferred (or donated leave), and in the case of the transfer program, the designated leave recipient.

Authority for Maintenance of the System:

5 U.S.C. 301, Departmental Regulations; 5 U.S.C. 6331 et seq., Leave; 5 CFR part 630, Administrative Personnel, Absence and Leave; and E.O. 9397 (SSN), as amended.

Purpose(s):

This system is used in managing the Defense Threat Reduction Agency (DTRA) Voluntary Leave Sharing Program. The recipient's name, and a brief description of the hardship, if authorized by the recipient, is published internally for solicitation purposes. The Social Security Number (SSN) is obtained to ensure the transfer of leave from the donor's account to the recipient's account.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

To the Department of Labor in connection with a claim filed by an employee for compensation due to a job-related injury or illness; where the leave donor and leave recipient are employed by different Federal agencies.

To personnel and finance offices of Federal agencies involved to effectuate the leave transfer.

The DoD `Blanket Routine Uses' set forth at the beginning of DTRA's compilation of systems of records notices apply to this system.

Policies and Practices for Storing, Retrieving, Accessing, Retaining, and Disposing of Records in the System:

Storage:

Records are stored on paper and electronic storage media.

Retrievability:

Retrieved by name or Social Security Number (SSN).

Safeguards:

Records are accessed by custodian of the records or by persons responsible for servicing the record system in the performance of their official duties. Records are stored in locked cabinets or rooms, and are controlled by personnel screening and computer software.

Retention and Disposal:

Records are destroyed two years after the end of the year in which the file is closed. Paper records are destroyed by burning or shredding; electronic records are deleted.

System Manager(S) and Address:

Chief, Human Capital Office, Defense Threat Reduction Agency, 8725 John J. Kingman Road, Fort Belvoir, VA 22060-6201.

Notification Procedure:

Individuals seeking to determine whether information about themselves is contained in this system of records should address written inquiries to the Human Capital Office, Defense Threat Reduction Agency, 8725 John J. Kingman Road, Fort Belvoir, VA 22060-6201.

Written requests should contain the full name and Social Security Number (SSN).

Record Access Procedures:

Individuals seeking access to information about themselves contained in this system of records should address written inquiries to the Human Capital Office, Defense Threat Reduction Agency, 8725 John J. Kingman Road, Fort Belvoir, VA 22060-6201.

Written requests for information should contain the full name and Social Security Number (SSN).

Contesting Record Procedures:

The DTRA rules for accessing records and for contesting contents and appealing initial agency determinations are published in DTRA Instruction 5400.11, DTRA Privacy Program; 32 CFR part 318; or may be obtained from the system manager.

Record Source Categories:

From the individual, personnel and leave records.

Exemptions Claimed for the System:

None.

[FR Doc. 2010-7383 Filed 4-1-10; 8:45 am]

BILLING CODE 5001-06-P